FARM CREDIT SYSTEM INSURANCE CORPORATION

Regular Meeting; Farm Credit System Insurance Corporation Board

AGENCY: Farm Credit System Insurance Corporation.

ACTION: Notice, regular meeting.

SUMMARY: Notice is hereby given, in accordance with the provisions of Article VI of the Bylaws of the Farm Credit System Insurance Corporation (FCSIC), that a regular meeting of the Board of Directors of FCSIC will be held.

DATES: December 17, 2020, at 10:00 a.m. EDT, until such time as the Board may conclude its business. Note: Because of the COVID-19 pandemic, we will conduct the board meeting virtually. If you would like to observe the open portion of the virtual meeting, see instructions below for board meeting visitors.

ADDRESSES: To observe the open portion of the virtual meeting, go to FCSIC.gov, select “News & Events,” then “Board Meetings.” There you will find a description of the meeting and “Instructions for board meeting visitors.” See SUPPLEMENTARY INFORMATION for further information about attendance requests.

FOR FURTHER INFORMATION CONTACT: Dale Aultman, Secretary to the Board of the Farm Credit System Insurance Corporation, (703) 883-4009. TTY is (703) 883-4056.

SUPPLEMENTARY INFORMATION: Parts of this meeting of the Board will be open to the public and parts will be closed. If you wish to observe the open portion, follow the instructions above in the “ADDRESSES” section at least 24 hours before the meeting.

Assistance: If you need assistance for accessibility reasons or if you have any questions, contact Dale Aultman, Secretary to the Farm Credit Administration Board, at (703) 883-4009. The matters to be considered at the meeting are as follows:

A. Open Session

Approval of Minutes

• September 24, 2020 Regular Board Minutes

B. Quarterly Business Reports

• Financial Reports

• Report on Insured Obligations

• Report on Annual Performance Plan

C. Closed Session—Risk Management Reports

• Report on Insurance Risk

D. Closed Session—Audit Committee

• Federal Managers Financial Integrity Act Review

• Audit Plan for the Year Ended December 31, 2020

• Executive Session of the Audit Committee with Auditor

Dated: December 8, 2020.
Dale Aultman,
Secretary, Farm Credit System Insurance Corporation.

[FR Doc. 2020-27302 Filed 12-10-20; 8:45 am]

BILLING CODE 6705-01-P